DEPARTMENT OF HOMELAND SECURITY

Office of the Secretary

[Docket No. DHS-2005-0043]

Open Meeting of National Infrastructure Advisory Council (NIAC)

AGENCY: Directorate of Information Analysis and Infrastructure Protection, DHS.

ACTION: Notice of meeting.

SUMMARY: The National Infrastructure Advisory Council (NIAC) will meet on Tuesday, July 12, 2005, from 1:30 p.m. to 4:30 p.m. at the National Press Club in Washington DC. The meeting will be open to the public. Limited seating will be available. Reservations are not accepted.

The NIAC advises the President of the United States on the security of critical infrastructures which include banking and finance, transportation, energy, manufacturing, and emergency government services. At this meeting, the NIAC will be briefed on the status of several Working Group activities in which the Council is currently engaged.

DATES: The National Infrastructure Advisory Council (NIAC) will meet on Tuesday, July 12, 2005, from 1:30 p.m. to 4:30 p.m. at the National Press Club in Washington DC.

ADDRESSES: The NIAC will meet at the National Press Club, 529 14th Street, NW., Washington, DC. If you desire to submit comments, they must be submitted by 10 days after publishing of Notice. Comments must be identified by DHS-2005-0043 and may be submitted by one of the following methods:

• EPA Federal Partner EDOCKET Web site: http://www.epa.gov/feddocket. Follow instructions for submitting comments on the Web site.

• E-mail: gail.kaufman@associates.dhs.gov. Include docket number in the subject line of the message.

• Fax: 703-235-5887.

• Mail/Hand Delivery/Courier: Department of Homeland Security, Attn: Mr. R. James Caverly, Infrastructure Coordination Division, Directorate of Information Analysis and Infrastructure Protection/703-235-5352, Anacostia Naval Annex, 245 Murray Lane, SW., Building 410, Washington, DC 20528, 7:30 a.m. to 4 p.m.

Docket: For access to the docket to read background documents or comments received, go to http://www.epa.gov/feddocket.

FOR FURTHER INFORMATION CONTACT: R. James Caverly, NIAC Designated Federal Official, telephone 703-235-5352.

SUPPLEMENTARY INFORMATION: Notice of these meetings is given under the Federal Advisory Committee Act, 5 U.S.C. App. 1 et seq.

Draft Agenda of July 12, 2005 Meeting
I. Opening of Meeting | R. James Caverly, U.S. Department of Homeland Security (DHS)/Designated Federal Official, NIAC.
II. Roll Call of of Members | R. James Caverly.
III. Opening Remarks and Introductions | NIAC Chairman, Erle A. Nye, Chairman Emeritus, TXU and Corp.
| NIAC Vice Chairman, John T. Chambers, Chairman and CEO, Cisco Systems, Inc.
| Michael Chertoff, Secretary, Department of Homeland Security.
| Robert B. Stephan, Acting Under Secretary Information Analysis and Infrastructure Protection (IAIP)—Assistant Secretary, Office of Infrastructure Protection, DHS.
| Frances Fragos Townsend, Homeland Security Advisor (Invited).
| Cheryl Peace, Director, Cyberspace Security, Homeland Security Council.
IV. Presentation of New Members Chief Denlinger, Mr. Rohde, Mr. Peters | Frances Fragos Townsend, Homeland Security Advisor (Invited).
V. Approval of April Minutes | NIAC Chairman, Erle A. Nye.
VI. Status Reports on Current working Group Initiatives | NIAC Chairman, Erle A. Nye, Presiding.
A. Intelligence Coordination | NIAC Vice Chairman, John T. Chambers, Chairman & CEO, Cisco Systems, Inc. and Chief Gilbert Gallegos, Retired Chief of Police in Albuquerque, New Mexico, NIAC Member.
VII. DHS Informational Brief—Tentative | TBD.
VIII. Draft Working Group Recommendations | NIAC Chairman, Erle A. Nye, Presiding.
A. Risk Management Approaches To Protection | Thomas E. Noonan, Chairman, President & CEO, Internet Security Systems, Inc., NIAC Member; Martha Marsh, President & CEO, Stanford Hospital and Clinics, NIAC Member.
B. Education and Workforce Preparation | Alfred R. Berkeley III, Chairman, Pipeline Trading, LLC., NIAC Member; Dr. Linwood Rose, President, James Madison University, NIAC Member.
C. Sector Partnership Model Implementation | Martin G. McGuinn, Chairman & CEO, Mellon Financial Corporation, NIAC Member; Marilyn Ware, Chairman Emerita, American Water, NIAC Member.
IX. New Business | NIAC Chairman, Erle A. Nye, NIAC Members.
A. TBD | TBD.
X. Adjournment | NIAC Chairman, Erle A. Nye.

Procedural Information: These meetings are open to the public. Please note that the meetings may close early if all business is finished.

Information on Services for Individuals with Disabilities: For information on facilities or services for individuals with disabilities, or to request special assistance at the meeting, telephone the Designated Federal Official as soon as possible.

Dated: June 13, 2005.
R. James Caverly,
Designated Federal Officer for the NIAC.

[FR Doc. 05-12752 Filed 6-24-05; 8:45 am]

BILLING CODE 4410-10-P